DEPARTMENT OF HOMELAND SECURITY

U.S. Citizenship and Immigration Services

[CIS No. 2774-24; DHS Docket No. USCIS-2015-0005]

RIN 1615-ZB76

Extension and Redesignation of Yemen for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Yemen for Temporary Protected Status (TPS) and redesignating Yemen for TPS for 18 months, beginning on September 4, 2024, and ending on March 3, 2026. This extension and redesignation allows Yemeni nationals (and individuals having no nationality who last habitually resided in Yemen) who have been continuously residing in the United States since July 2, 2024, and who have been continuously physically present in the United States since September 4, 2024, to apply or re-register for TPS.

DATES: Extension and redesignation of designation of Yemen for TPS begins on September 4, 2024, and will remain in effect for 18 months. For registration instructions, see the Registration Information section below.

FOR FURTHER INFORMATION CONTACT:

• You may contact Rená Cutlip-Mason, Chief, Humanitarian Affairs Division, Office of Policy and Strategy, U.S. Citizenship and Immigration Services, Department of Homeland Security, by mail at 5900 Capital Gateway Drive, Camp Springs, MD 20746, or by phone at 240-721-3000.

• For more information on TPS, including guidance on the registration process and additional information on eligibility, please visit the USCIS TPS web page at https://www.uscis.gov/tps. You can find specific information about Yemen's TPS designation by selecting “Yemen” from the menu on the left side of the TPS web page.

• If you have additional questions about TPS, please visit https://uscis.gov/tools. Our online virtual assistant, Emma, can answer many of your questions and point you to additional information on our website. If you cannot find your answers there, you may also call our USCIS Contact Center at 800-375-5283 (TTY 800-767-1833).

• Applicants seeking information about the status of their individual cases may check Case Status Online, available on the USCIS website at uscis.gov, or visit the USCIS Contact Center at https://www.uscis.gov/contactcenter.

• You can also find more information at local USCIS offices after this notice is published.

SUPPLEMENTARY INFORMATION:

Table of Abbreviations

BIA—Board of Immigration Appeals

CFR—Code of Federal Regulations

DHS—U.S. Department of Homeland Security

DoS—U.S. Department of State

EAD—Employment Authorization Document

FNC—Final Nonconfirmation

Form I-131—Application for Travel Document

Form I-765—Application for Employment Authorization

Form I-797—Notice of Action

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TPS—Temporary Protected Status

TTY—Text Telephone

USCIS—U.S. Citizenship and Immigration Services

U.S.C.—United States Code

Registration Information

Extension of Designation of Yemen for TPS: The 18-month extension of the designation of Yemen for TPS begins on September 4, 2024, and will remain in effect for 18 months, ending on March 3, 2026. The extension allows existing TPS beneficiaries to retain TPS through March 3, 2026, if they otherwise continue to meet the eligibility requirements for TPS. Existing TPS beneficiaries who wish to extend their status through March 3, 2026, must re-register during the 60-day re-registration period described in this notice.

Re-registration: The 60-day re-registration period for existing beneficiaries runs from July 10, 2024, through September 9, 2024. (Note: It is important for re-registrants to timely re-register during the re-registration period and not to wait until their Employment Authorization Documents (EADs) expire, as delaying re-registration could result in gaps in their employment authorization documentation.)

Redesignation of Yemen for TPS: The 18-month redesignation of Yemen for TPS begins on September 4, 2024, and will remain in effect for 18 months, ending on March 3, 2026. The redesignation allows individuals who do not currently have TPS to apply for TPS during the initial registration period described under the first-time registration information in this notice. In addition to demonstrating continuous residence in the United States since July 2, 2024, and meeting other eligibility criteria, initial applicants for TPS under this designation must demonstrate that they have been continuously physically present in the United States since September 4, 2024, the effective date of this redesignation of Yemen for TPS.

First-time Registration: The initial registration period for new applicants under the Yemen TPS redesignation begins on July 10, 2024, and will remain in effect through March 3, 2026.

Purpose of This Action (TPS)

Through this notice, DHS sets forth procedures necessary for nationals of Yemen (or individuals having no nationality who last habitually resided in Yemen) to (1) re-register for TPS and apply to renew their EAD with USCIS or (2) submit an initial registration application under the redesignation and apply for an EAD.

Re-registration is limited to individuals who have previously registered for TPS under the prior designation of Yemen and whose applications have been granted. If you do not re-register properly within the 60-day re-registration period, USCIS may withdraw your TPS following appropriate procedures. See 8 CFR 244.14.

For individuals who have already been granted TPS under Yemen's designation, the 60-day re-registration period runs from July 10, 2024, through September 9, 2024. USCIS will issue new EADs with a March 3, 2026, expiration date to eligible Yemeni TPS beneficiaries who timely re-register and apply for EADs. Given the time frames involved with processing TPS re-registration applications, DHS recognizes that not all re-registrants may receive a new EAD before their current EAD expires. Accordingly, through this Federal Register notice, DHS automatically extends through September 3, 2025, the validity of certain EADs previously issued under the TPS designation of Yemen. As proof of continued employment authorization through September 3, 2025, TPS beneficiaries can show their EAD with the notation A-12 or C-19 under Category and a “Card Expires” date of September 3, 2024, or March 3, 2023. This notice explains how TPS beneficiaries and their employers may determine if an EAD is automatically extended and how this affects the Form I-9, Employment Eligibility Verification, E-Verify, and USCIS Systematic Alien Verification for Entitlements (SAVE) processes.

Individuals who have an Application for Temporary Protected Status (Form I-821) for Yemen or Application for Employment Authorization (Form I-765) that was still pending as of September 4, 2024, do not need to file either application again. If USCIS approves an individual's pending Form I-821, USCIS will grant the individual TPS through March 3, 2026. Similarly, if USCIS approves a pending TPS-related Form I-765, USCIS will issue the individual a new EAD that will be valid through the same date.

Under the redesignation, individuals who currently do not have TPS may submit an initial application during the initial registration period that runs from July 10, 2024, through the full length of the redesignation period ending March 3, 2026. In addition to demonstrating continuous residence in the United States since July 2, 2024, and meeting other eligibility criteria, initial applicants for TPS under this redesignation must demonstrate that they have been continuously physically present in the United States since September 4, 2024,¹ the effective date of this redesignation of Yemen, before USCIS may grant them TPS. DHS estimates that approximately 1,700 individuals may become newly eligible for TPS under the redesignation of Yemen.

¹ The “continuous physical presence” date is the effective date of the most recent TPS designation of the country, which is either the publication date of the designation announcement in the Federal Register or a later date established by the Secretary. The “continuous residence” date is any date established by the Secretary when a country is designated (or sometimes redesignated) for TPS. See INA sec. 244(b)(2)(A) (effective date of designation); 244(c)(1)(A)(i-ii) (continuous residence and continuous physical presence date requirements); 8 U.S.C. 1254a(b)(2)(A); 1254a(c)(1)(A)(i-ii).

What is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to obtain EADs if they continue to meet the requirements of TPS.

• TPS beneficiaries may also apply for and be granted travel authorization as a matter of DHS discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, if it is still valid beyond the date their TPS terminates.

When was Yemen designated for TPS?

Yemen was initially designated for TPS on September 3, 2015, based on ongoing armed conflict that prevented nationals of Yemen from returning to Yemen in safety. See Designation of the Republic of Yemen for Temporary Protected Status, 80 FR 53319 (Sept. 3, 2015). In January 2017, Yemen's designation was extended for 18 months through September 3, 2018, and Yemen was redesignated for TPS on the dual bases of ongoing armed conflict and extraordinary and temporary conditions. See Extension and Redesignation of the Republic of Yemen for Temporary Protected Status, 82 FR 859 (Jan. 4, 2017). The Secretary extended Yemen's TPS designation in 2018 and 2020 because the statutory bases of ongoing armed conflict and extraordinary and temporary conditions persisted. See Extension of the Designation of Yemen for Temporary Protected Status, 83 FR 40307 (Aug. 14, 2018); see also Extension of the Designation of Yemen for Temporary Protected Status, 85 FR 12313 (Mar. 2, 2020). In 2021, the Secretary extended and redesignated Yemen for TPS based on ongoing armed conflict and extraordinary and temporary conditions. See Extension and Redesignation of Yemen for Temporary Protected Status, 86 FR 36295 (July 9, 2021). Most recently, the Secretary extended and redesignated Yemen for Temporary Protected Status on the bases of ongoing armed conflict and extraordinary and temporary conditions. See Extension and Redesignation of Yemen for Temporary Protected Status, 88 FR 94 (January 3, 2023).

What authority does the Secretary have to extend the designation of Yemen for TPS?

Section 244(b)(1) of the INA, 8 U.S.C. 1254a(b)(1), authorizes the Secretary, after consultation with appropriate agencies of the U.S. Government, to designate a foreign state (or part thereof) for TPS if the Secretary determines that certain country conditions exist.² The decision to designate any foreign state (or part thereof) is a discretionary decision, and there is no judicial review of any determination with respect to the designation, termination, or extension of a designation. See INA sec. 244(b)(5)(A), 8 U.S.C. 1254a(b)(5)(A). The Secretary, in their discretion, may then grant TPS to eligible nationals of that foreign state (or individuals having no nationality who last habitually resided in the designated foreign state). See INA sec. 244(a)(1)(A), 8 U.S.C. 1254a(a)(1)(A).

² INA section 244(b)(1) ascribes this power to the Attorney General. Congress transferred this authority from the Attorney General to the Secretary of Homeland Security. See Homeland Security Act of 2002, Public Law 107-296, 116 Stat. 2135 (2002). The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. INA sec. 244(b)(1); 8 U.S.C. 1254a(b)(1).

At least 60 days before the expiration of a foreign state's TPS designation or extension, the Secretary, after consultation with appropriate U.S. Government agencies, must review the conditions in the foreign state designated for TPS to determine whether they continue to meet the conditions for the TPS designation. See INA sec. 244(b)(3)(A), 8 U.S.C. 1254a(b)(3)(A). If the Secretary determines that the foreign state continues to meet the conditions for TPS designation, the designation will be extended for an additional period of 6 months or, in the Secretary's discretion, 12 or 18 months. See INA sec. 244(b)(3)(A), (C), 8 U.S.C. 1254a(b)(3)(A), (C). If the Secretary determines that the foreign state no longer meets the conditions for TPS designation, the Secretary must terminate the designation. See INA sec. 244(b)(3)(B), 8 U.S.C. 1254a(b)(3)(B).

What is the Secretary's authority to redesignate Yemen for TPS?

In addition to extending an existing TPS designation, the Secretary, after consultation with appropriate Government agencies, may redesignate a country (or part thereof) for TPS. See INA sec. 244(b)(1), 8 U.S.C. 1254a(b)(1); see also INA sec. 244(c)(1)(A)(i), 8 U.S.C. 1254a(c)(1)(A)(i) (requiring that “the alien has been continuously physically present in the United States since the effective date of the most recent designation of that state”) (emphasis added).³

³ The extension and redesignation of TPS for Yemen is one of several instances in which the Secretary and, before the establishment of DHS, the Attorney General, have simultaneously extended a country's TPS designation and redesignated the country for TPS. See, e.g., Extension and Redesignation of Haiti for Temporary Protected Status, 76 FR 29000 (May 19, 2011); Extension and Re-designation of Temporary Protected Status for Sudan, 69 FR 60168 (Oct. 7, 2004); Extension of Designation and Redesignation of Liberia Under Temporary Protected Status Program, 62 FR 16608 (Apr. 7, 1997).

When the Secretary designates or redesignates a country for TPS, the Secretary also has the discretion to establish the date from which TPS applicants must demonstrate that they have been “continuously resid[ing]” in the United States. See INA sec. 244(c)(1)(A)(ii), 8 U.S.C. 1254a(c)(1)(A)(ii). The Secretary has determined that the “continuous residence” date for applicants for TPS under the redesignation of Yemen will be July 2, 2024. Initial applicants for TPS under this redesignation must also show they have been “continuously physically present” in the United States since September 4, 2024, which is the effective date of the Secretary's redesignation of Yemen. See INA sec. 244(c)(1)(A)(i), 8 U.S.C. 1254a(c)(1)(A)(i). For each initial TPS application filed under the redesignation, USCIS cannot make the final determination of whether the applicant has met the “continuous physical presence” requirement until September 4, 2024, the effective date of this redesignation for Yemen.

USCIS, however, will issue employment authorization documentation, as appropriate, during the registration period in accordance with 8 CFR 244.5(b).

Why is the Secretary extending the TPS designation for Yemen and simultaneously redesignating Yemen for TPS through March 3, 2026?

DHS has reviewed conditions in Yemen. Based on the review, including input received from Department of State (DoS) and other U.S. Government agencies, the Secretary has determined that an 18-month TPS extension is warranted because the ongoing armed conflict and extraordinary and temporary conditions supporting Yemen's TPS designation remain. The Secretary has further determined that redesignating Yemen for TPS under INA section 244(b)(3)(C), 8 U.S.C. 1254a(b)(3)(C) is warranted and is changing the continuous residence and continuous physical presence dates that applicants must meet to be eligible for TPS.

Overview

Yemen is currently in its tenth ⁴ year of a protracted conflict that has resulted in high levels of food insecurity, limited access to water and medical care, and the large-scale destruction of Yemen's infrastructure.⁵ A United Nations (UN)-backed truce came into effect on April 2, 2022 and expired on Oct. 2, 2022.⁶ Since its expiration, the conflict parties have largely continued to abide by the ceasefire, but the conflict continues to affect the civilian population.⁷ Partly as a result of the conflict, Yemen continues to experience one of the largest humanitarian crises in the world; approximately 21.6 million people (about two thirds of the population) needed humanitarian assistance in 2023.⁸

⁴ Center for Preventive Action, War in Yemen, last updated Mar. 5, 2024, available at: https://www.cfr.org/global-conflict-tracker/conflict/war-yemen (last visited Apr. 12, 2024).

⁵ United Nations High Commissioner for Refugees, Yemen Crisis Explained, Mar. 21, 2024, available at: https://www.unrefugees.org/news/yemen-crisis-explained (last visited Mar. 25, 2024); Human Rights Watch, “Death is More Merciful Than This Life” Houthi and Yemeni Government Violations of the Right to Water in Taizz, Dec. 11, 2023, available at: https://www.hrw.org/report/2023/12/11/death-more-merciful-life/houthi-and-yemeni-government-violations-right-water (last visited Apr. 12, 2024).

⁶ United Nations News, Yemen Truce Renewed for Another Two Months, Aug. 2, 2022, available at: https://news.un.org/en/story/2022/08/1123832 (last visited Mar. 7, 2024).

⁷ Center for Preventive Action, War in Yemen, last updated Mar. 5, 2024, available at: https://www.cfr.org/global-conflict-tracker/conflict/war-yemen (last visited Apr. 12, 2024); United Nations Office for the Coordination of Humanitarian Affairs, Yemen Humanitarian Needs Overview 2024, page 15, Feb. 1, 2024, available at: https://www.unocha.org/publications/report/yemen/yemen-humanitarian-needs-overview-2024-january-2024 (last visited May 17, 2024).

⁸ United Nations Population Fund, Yemen, Dec. 20, 2023, available at: https://www.unfpa.org/yemen# (last visited Feb. 29, 2024).

Armed Conflict and Security Situation

The conflict between the Houthis and the Saudi-led coalition backing Yemen's internationally recognized government has directly affected the physical security of the civilian population throughout the country.⁹ According to the Armed Conflict Location and Event Data Project (ACLED), while the truce continued to result in a significant de-escalation between the conflict parties in 2023, growing repression in Houthi-controlled areas as well as increased civilian mobility and exposure to unexploded ordnance pose a grave threat to civilian lives.¹⁰ Political violence by Al-Qaeda in the Arabian Peninsula erupted in May and June 2023, resulting in heightened tensions throughout the country.¹¹ ACLED reports that the share of violent events that impacted civilians more than doubled in 2023 compared to the previous year.¹²

⁹ Human Rights Watch, World Report 2024: Yemen, available at: https://www.hrw.org/world-report/2024/country-chapters/yemen (last visited Feb. 27, 2024).

¹⁰ Armed Conflict Location & Event Data Project (ACLED), Yemen and the Red Sea: Rising Tensions Threaten Peace Process and International Security, Jan. 17, 2024, available at: https://acleddata.com/conflict-watchlist-2024/yemen/ (last visited Mar. 18, 2024); Armed Conflict Location & Event Data Project (ACLED), Violence in Yemen During the UN-Mediated Truce: April-October 2022, available at: https://acleddata.com/2022/10/14/violence-in-yemen-during-the-un-mediated-truce-april-october-2022/ (last visited Mar. 18, 2024).

¹¹ Center for Preventive Action, War in Yemen, last updated Mar. 5, 2024, available at: https://www.cfr.org/global-conflict-tracker/conflict/war-yemen (last visited Apr. 12, 2024).

¹² Armed Conflict Location & Event Data Project (ACLED), Yemen and the Red Sea: Rising Tensions Threaten Peace Process and International Security, Jan. 17, 2024, available at: https://acleddata.com/conflict-watchlist-2024/yemen/ (last visited Mar. 18, 2024).

The UN reports that Yemen “remains one of the most contaminated countries globally by landmines and explosive remnants of war and has the third highest number of casualties stemming from these threats over the past ten years.” ¹³ Mine contamination not only endangers the lives of civilians but also presents an obstacle to sustainable solutions including internally displaced persons (IDPs) returning to their homes or settling elsewhere.¹⁴ Unexploded ordnance resulted in 121 civilian casualties in the first quarter of 2023.¹⁵ Approximately 300 children were killed or injured in Yemen throughout 2023, and more than half were due to landmines and unexploded ordnance.¹⁶

¹³ United Nations Office for the Coordination of Humanitarian Affairs, Yemen Humanitarian Needs Overview 2024, Feb. 1, 2024, available at: https://www.unocha.org/publications/report/yemen/yemen-humanitarian-needs-overview-2024-january-2024 (last visited May. 17, 2024).

¹⁴ Id.

¹⁵ Human Rights Watch, World Report 2024: Yemen, available at: https://www.hrw.org/world-report/2024/country-chapters/yemen (last visited Mar. 18, 2024).

¹⁶ Save the Children, Two Children Killed and Three Injured in Yemen Landmine Explosion, Feb.14, 2024, available at: https://www.savethechildren.net/news/two-children-killed-and-three-injured-yemen-landmine-explosion (last visited Mar. 18, 2024).

Humanitarian Situation

Yemen continues to experience one of the worst humanitarian crises in the world, suffering from a widespread lack of basic public services including electricity, healthcare, water, and sanitation services.¹⁷ In 2023, Yemen had approximately 4.5 million IDPs (approximately 14% of the population),¹⁸ including 314,000 newly displaced individuals in 2023 alone.¹⁹ Over a quarter of the displaced individuals have experienced displacement more than once.²⁰ The UN also recorded approximately 77,000 Yemeni refugees and asylum-seekers in neighboring countries.²¹

¹⁷ United Nations Children's Fund, Yemen Crisis, Feb. 16, 2024, available at https://www.unicef.org/emergencies/yemen-crisis (last visited Mar. 24, 2024); United Nations Office for the Coordination of Humanitarian Affairs, Yemen Humanitarian Needs Overview 2024, Feb. 1, 2024, available at: https://www.unocha.org/publications/report/yemen/yemen-humanitarian-needs-overview-2024-january-2024 (last visited May. 17, 2024).

¹⁸ Yemen Humanitarian Needs Overview, OCHA, January 2024, p. 15, available at https://www.unocha.org/attachments/54baf3f4-a060-4ea3-b36c-c2715d233f79/Yemen%20Humanitarian%20Needs%20Overview%2024%28January%2024%29.pdf (last visited May 29, 2024).

¹⁹ United Nations Office for the Coordination of Humanitarian Affairs, Yemen Humanitarian Needs Overview 2024, page 15, Feb. 1, 2024, available at: https://www.unocha.org/publications/report/yemen/yemen-humanitarian-needs-overview-2024-january-2024 (last visited May. 17, 2024).

²⁰ Id.

²¹ United Nations High Commissioner for Refugees, Refugee Data Finder, available at: https://www.unhcr.org/refugee-statistics/download/? (last visited Feb. 27, 2024).

Currently, 80% of the population in Yemen lives below the poverty line as the fragile economy remains on the brink of collapse.²² Over 27% of the population does not have access to safe water, and approximately half of the population does not have access to enough drinking water when needed.²³ Food insecurity remains a severe problem throughout Yemen with approximately 17 million people considered food insecure and 3.5 million reported to be acutely malnourished.²⁴ Over 90% of the food in Yemen is imported.²⁵ In addition to serious challenges with food security, Yemen continues to suffer from a frail healthcare system.²⁶ Approximately half of all health facilities are only partially functioning or completely out of service, and Yemen continues to experience crippling disease outbreaks throughout the country.²⁷

²² United Nations Office for the Coordination of Humanitarian Affairs, Yemen Humanitarian Needs Overview 2024, page 5, Feb. 1, 2024, available at: https://www.unocha.org/publications/report/yemen/yemen-humanitarian-needs-overview-2024-january-2024 (last visited May. 17, 2024).

²³ Id.

²⁴ World Food Programme, WFP Yemen—Situation Report #1, Jan. 2024, available at: https://api.godocs.wfp.org/api/documents/b3d2cd633e254feab7e0dfea519368e5/download/? (last visited Mar. 21, 2024).

²⁵ Congressional Research Services, Yemen: Conflict, Maritime Attacks, and U.S. Policy, Feb. 26, 2024, available at: https://crsreports.congress.gov/product/pdf/IF/IF12581 (last visited Mar. 21, 2024).

²⁶ World Health Organization, Eight Years of Prolonged Conflict in Yemen Leave Over 20 Million People in Need of Urgent Health Assistance, Mar. 25, 2023, available at: https://www.emro.who.int/media/news/eight-years-of-prolonged-conflict-in-yemen-leave-over-20-million-people-in-need-of-urgent-health-assistance.html#. (last visited Mar. 22, 2024).

²⁷ Id.

Based on this review and after consultation with appropriate U.S. Government agencies, the Secretary has determined that:

• The conditions supporting Yemen's designation for TPS continue to be met. See INA sec. 244(b)(3)(A) and (C), 8 U.S.C. 1254a(b)(3)(A) and (C).

• There continues to be an ongoing armed conflict in Yemen and, due to such conflict, requiring the return to Yemen of Yemeni nationals (or individuals having no nationality who last habitually resided in Yemen) would pose a serious threat to their personal safety. See INA sec. 244(b)(1)(A), 8 U.S.C. 1254a(b)(1)(A).

• There continue to be extraordinary and temporary conditions in Yemen that prevent Yemeni nationals (or individuals having no nationality who last habitually resided in Yemen) from returning to Yemen in safety, and it is not contrary to the national interest of the United States to permit Yemeni TPS beneficiaries to remain in the United States temporarily. See INA sec. 244(b)(1)(C), 8 U.S.C. 1254a(b)(1)(C).

• The designation of Yemen for TPS should be extended for an 18-month period, beginning on September 4, 2024, and ending on March 3, 2026. See INA sec. 244(b)(3)(C), 8 U.S.C. 1254a(b)(3)(C).

• Due to the conditions described above, Yemen should be simultaneously extended and redesignated for TPS beginning on September 4, 2024, and ending on March 3, 2026. See INA sec. 244(b)(1)(A) and (C) and (b)(2), 8 U.S.C. 1254a(b)(1)(A) and (C) and (b)(2).

• For the redesignation, the Secretary has determined that TPS applicants must demonstrate that they have continuously resided in the United States since July 2, 2024.

• Initial TPS applicants under the redesignation must demonstrate that they have been continuously physically present in the United States since September 4, 2024, the effective date of the redesignation of Yemen for TPS.

• There are approximately 2,300 current Yemen TPS beneficiaries who are eligible to re-register for TPS under the extension.

• It is estimated that approximately 1,700 additional individuals may be eligible for TPS under the redesignation of Yemen. This population includes Yemeni nationals in the United States in nonimmigrant status or without immigration status.

Notice of the Designation of Yemen for TPS

By the authority vested in me as Secretary under INA section 244, 8 U.S.C. 1254a, I have determined, after consultation with the appropriate U.S. Government agencies, the statutory conditions supporting Yemen's designation for TPS on the basis of ongoing armed conflict and extraordinary and temporary conditions are met. See INA sec. 244(b)(1)(A), 8 U.S.C. 1254a(b)(1)(A) and INA sec. 244(b)(1)(C), 8 U.S.C. 1254a(b)(1)(C). On the basis of this determination, I am simultaneously extending the existing designation of Yemen for TPS for 18 months, beginning on September 4, 2024, and ending on March 3, 2026, and redesignating Yemen for TPS for the same 18-month period. See INA sec. 244(b)(1)(A), (b)(1)(C) and (b)(2); 8 U.S.C. 1254a(b)(1)(A), (b)(1)(C), and (b)(2).

Alejandro N. Mayorkas,
Secretary, U.S. Department of Homeland Security.

Eligibility and Employment Authorization for TPS

Required Application Forms and Application Fees To Register or Re-Register for TPS

To register or re-register for TPS based on the designation of Yemen, you must submit a Form I-821. If you are submitting an initial TPS application, you must pay the application fee for Form I-821 (or request a fee waiver, which you may submit on Form I-912, Request for Fee Waiver). If you are filing an application to re-register for TPS, you do not need to pay the application fee. Whether you are registering as an initial applicant or re-registering, you are required to pay the biometric services fee. If you cannot pay the biometric services fee, you may ask USCIS to waive the fee. Please see additional information under the “Biometric Services Fee” section of this notice.

TPS beneficiaries are eligible for an EAD, which proves their authorization to work in the United States. You are not required to submit Form I-765 or have an EAD to be granted TPS, but see below for more information if you want an EAD to use as proof that you can work in the United States.

Individuals who have a Yemen TPS application (Form I-821) that was still pending as of July 10, 2024, do not need to file the application again. If USCIS approves an individual's Form I-821, USCIS will grant the individual TPS through March 3, 2026.

For more information on the application forms and fees for TPS, please visit the USCIS TPS web page at https://www.uscis.gov/tps. Fees for the Form I-821, the Form I-765, and biometric services are also described in 8 CFR 106.2 and the fee waiver-related regulations in 8 CFR 106.3. In addition, USCIS Form G-1055, Fee Schedule, provides the current fees required for the Form I-821 and Form I-765 for both initial TPS applicants and existing TPS beneficiaries who are re-registering.

How can TPS beneficiaries obtain an employment authorization document (EAD)?

Everyone must provide their employer with documentation showing that they have the legal right to work in the United States. TPS beneficiaries are eligible to obtain an EAD, which proves their legal right to work. If you want to obtain an EAD, you must file Form I-765 and pay the Form I-765 fee (or request a fee waiver, which you may submit on Form I-912). TPS applicants may file this form with their TPS application, or separately later, if their TPS application is still pending or has been approved.

Beneficiaries with a Yemen TPS-related Form I-765 that was still pending as of July 10, 2024, do not need to file the application again. If USCIS approves a pending TPS-related Form I-765, USCIS will issue the individual a new EAD that will be valid through March 3, 2026.

Refiling an Initial TPS Registration Application After Receiving a Denial of a Fee Waiver Request

If USCIS denies your fee waiver request, you can resubmit your TPS application. The fee waiver denial notice will contain specific instructions about resubmitting your application.

Filing Information

USCIS offers the option to applicants for TPS under Yemen's designation to file Form I-821 and related requests for EADs online or by mail. However, if you request a fee waiver, you must submit your application by mail. When filing a TPS application, you can also request an EAD by submitting a completed Form I-765 with your Form I-821.

Online filing: Form I-821 and Form I-765 are available for concurrent filing online.²⁸ To file these forms online, you must first create a USCIS online account.²⁹

²⁸ Find information about online filing at “Forms Available to File Online,” https://www.uscis.gov/file-online/forms-available-to-file-online.

²⁹ https://myaccount.uscis.gov/users/sign_up.

Mail filing: Mail your completed Form I-821; Form I-765, if applicable; Form I-912, if applicable; and supporting documentation to the proper address in Table 1—Mailing Addresses.

Table 1—Mailing Addresses
If you are . . . | Mail to . . .
Using the U.S. Postal Service (USPS) | USCIS, Attn: TPS Yemen, P.O. Box 6943, Chicago, IL 60680-6943.
Using FedEx, UPS, or DHL | USCIS, Attn: TPS Yemen (Box 6943), 131 South Dearborn Street, 3rd Floor, Chicago, IL 60603-5517.

If you were granted TPS by an immigration judge (IJ) or the Board of Immigration Appeals (BIA) and you wish to request an EAD, please file online or mail your Form I-765 to the appropriate address in Table 1. If you file online, please include the fee. If you file by mail, please include the fee or fee waiver request. When you request an EAD based on an IJ or BIA grant of TPS, please include with your application a copy of the order from the IJ or BIA granting you TPS. This will help us verify your grant of TPS and process your application.

Supporting Documents

The filing instructions for Form I-821 list all the documents you need to establish eligibility for TPS. You may also find information on the acceptable documentation and other requirements for applying (also called registering) for TPS on the USCIS website at https://www.uscis.gov/tps under “Yemen.”

Travel

TPS beneficiaries may also apply for and be granted travel authorization as a matter of discretion. You must file for travel authorization if you wish to travel outside of the United States. If USCIS grants travel authorization, it gives you permission to leave the United States and return during a specific period. To request travel authorization, you must file Form I-131, available at https://www.uscis.gov/i-131. You may file Form I-131 together with your Form I-821 or separately. When you file Form I-131, you must:

• Select Item Number 1.d. in Part 2 on the Form I-131; and

• Submit the fee for Form I-131, or request a fee waiver, which you may submit on Form I-912.

If you are filing Form I-131 together with Form I-821, send your forms to the address listed in Table 1. If you are filing Form I-131 separately based on a pending or approved Form I-821, send your form to the address listed in Table 2 and include a copy of Form I-797 for your approved or pending Form I-821.

Table 2—Mailing Addresses
If you are . . . | Mail to . . .
Filing Form I-131 together with Form I-821 | The address provided in Table 1.
Filing Form I-131 based on a pending or approved Form I-821, and you are using the U.S. Postal Service (USPS): | USCIS, Attn: I-131 TPS, P.O. Box 660167, Dallas, TX 75266-0867.
You must include a copy of the Notice of Action (Form I-797C or I-797) showing USCIS accepted or approved your Form I-821
Filing Form I-131 based on a pending or approved Form I-821, and you are using FedEx, UPS, or DHL: | USCIS, Attn: I-131 TPS, 2501 S State Hwy. 121 Business, Ste. 400, Lewisville, TX 75067.
You must include a copy of the Notice of Action (Form I-797C or I-797) showing USCIS accepted or approved your Form I-821

Biometric Services Fee for TPS

Biometrics (such as fingerprints) are required for all applicants, in addition to a biometric services fee. As previously stated, if you cannot pay the biometric services fee, you may request a fee waiver, which you may submit on Form I-912. For more information on the application forms and fees for TPS, please visit the USCIS TPS web page at https://www.uscis.gov/tps. USCIS may require you to visit an Application Support Center to have your biometrics collected. For additional information on the USCIS biometric screening process, please see the USCIS Customer Profile Management Service Privacy Impact Assessment, available at https://www.dhs.gov/publication/dhsuscispia-060-customer-profile-management-service-cpms.

General Employment-Related Information for TPS Applicants and Their Employers

How can I obtain information on the status of my TPS application and EAD request?

To get case status information about your TPS application, as well as the status of your TPS-based EAD request, you can check Case Status Online at https://uscis.gov or visit the USCIS Contact Center at https://www.uscis.gov/contactcenter. If you still need assistance, you may ask a question about your case online at https://egov.uscis.gov/e-request/Intro.do or call the USCIS Contact Center at 800-375-5283 (TTY 800-767-1833).

Am I eligible to receive an automatic extension of my current EAD through September 3, 2025, through this Federal Register notice?

Yes. Regardless of your country of birth, if you currently have a Yemen TPS-based EAD with the notation A-12 or C-19 under Category and a “Card Expires” date of September 3, 2024, or March 3, 2023, this Federal Register notice automatically extends your EAD through September 3, 2025. Although this Federal Register notice automatically extends your EAD through September 3, 2025, you must timely re-register for TPS in accordance with the procedures described in this Federal Register notice to maintain your TPS and avoid possible gaps in your employment authorization documentation.

When hired, what documentation may I show to my employer as evidence of identity and employment authorization when completing Form I-9?

You can find the Lists of Acceptable Documents on Form I-9, Employment Eligibility Verification, as well as the Acceptable Documents web page at https://www.uscis.gov/i-9-central/acceptable-documents. Employers must complete Form I-9 to verify the identity and employment authorization of all new employees. Within three business days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in these lists. Employers may not reject a document based on a future expiration date. You can find additional information about Form I-9 on the I-9 Central web page at https://www.uscis.gov/I-9Central. An EAD is an acceptable document under List A. See the section “How do my employer and I complete Form I-9 using my automatically extended EAD for a new job?” of this Federal Register notice for more information. If your EAD states A-12 or C-19 under Category and has a “Card Expires” date of September 3, 2024, or March 3, 2023, this Federal Register notice extends it automatically, and you may choose to present your EAD to your employer as proof of identity and employment eligibility for Form I-9 through September 3, 2025, unless your TPS has been withdrawn or your request for TPS has been denied. Your country of birth noted on the EAD does not have to reflect the TPS-designated country of Yemen for you to be eligible for this extension.

What documentation may I present to my employer for Form I-9 if I am already employed but my current TPS-related EAD is set to expire?

Even though we have automatically extended your EAD, your employer is required by law to ask you about your continued employment authorization. Your employer may need to reexamine your automatically extended EAD to check the “Card Expires” date and Category code if your employer did not keep a copy of your EAD when you initially presented it. Once your employer has reviewed the “Card Expires” date and Category code, they should update the EAD expiration date in Section 2 of Form I-9. See the section “What updates should my current employer make to Form I-9 if my EAD has been automatically extended?” of this Federal Register notice for more information. You may show this Federal Register notice to your employer to explain what to do for Form I-9 and to show that USCIS has automatically extended your EAD through September 3, 2025, but you are not required to do so. The last day of the automatic EAD extension is September 3, 2025. Before you start work on September 4, 2025, your employer is required by law to reverify your employment authorization on Form I-9. By that time, you must present any document from List A or any document from List C on Form I-9 Lists of Acceptable Documents, or an acceptable List A or List C receipt described in these lists to reverify employment authorization.

Your employer may not specify which List A or List C document you must present and cannot reject an acceptable receipt.

If I have an EAD based on another immigration status, can I obtain a new TPS-based EAD?

Yes, if you are eligible for TPS, you can obtain a new TPS-based EAD, even if you already have an EAD or work authorization based on another immigration status. If you want to obtain a new TPS-based EAD valid through March 3, 2026, you must file Form I-765 and pay the associated fee (unless USCIS grants your fee waiver request).

Can my employer require that I provide any other documentation to complete Form I-9, such as evidence of my status, proof of my Yemeni citizenship, or a Form I-797C showing that I registered for TPS?

No. When completing Form I-9, employers must accept any documentation you choose to present from the Form I-9 Lists of Acceptable Documents that reasonably appears to be genuine and that relates to you, or an acceptable List A, List B, or List C receipt. Employers may not request other documentation, such as proof of Yemeni citizenship or proof of registration for TPS, when completing Form I-9 for new hires or reverifying the employment authorization of current employees. If you present an EAD that USCIS has automatically extended, employers should accept it as a valid List A document if the EAD reasonably appears to be genuine and to relate to you. Refer to the “Note to Employees” section of this Federal Register notice for important information about your rights if your employer rejects lawful documentation, requires additional documentation, or otherwise discriminates against you based on your citizenship or immigration status or your national origin.

How do my employer and I complete Form I-9 using my automatically extended EAD for a new job?

When using an automatically extended EAD to complete Form I-9 for a new job before September 4, 2025:

1. For Section 1, you should:

a. Check “A noncitizen authorized to work until” and enter September 3, 2025, as the “expiration date”; and

b. Enter your USCIS number or A-Number where indicated. (Your EAD or other document from DHS will have your USCIS number or A-Number printed on it; the USCIS number is the same as your A-Number without the A prefix.)

2. For Section 2, employers should:

a. Determine whether the EAD is auto-extended by ensuring it is in category A-12 or C-19 and has a “Card Expires” date of September 3, 2024, or March 3, 2023;

b. Write in the document title;

c. Enter the issuing authority;

d. Provide the document number; and

e. Write September 3, 2025, as the expiration date.

Before the start of work on September 4, 2025, employers must reverify the employee's employment authorization on Form I-9.

What updates should my current employer make to Form I-9 if my EAD has been automatically extended?

If you presented a TPS-related EAD that was valid when you first started your job and USCIS has now automatically extended your EAD, your employer may need to re-examine your current EAD if they do not have a copy of the EAD on file. Your employer should determine whether your EAD is automatically extended by ensuring that it contains Category A-12 or C-19 and has a “Card Expires” date of September 3, 2024, or March 3, 2023. Your employer may not rely on the country of birth listed on the card to determine whether you are eligible for this extension.

If your employer determines that USCIS has automatically extended your EAD, they should update Section 2 of your previously completed Form I-9 as follows:

1. Write EAD EXT and September 3, 2025, as the last day of the automatic extension in the Additional Information field; and

2. Initial and date the correction.

Note: This is not considered a reverification. Employers do not reverify the employee until either the automatic extension has ended, or the employee presents a new document to show continued employment authorization, whichever is sooner. By September 4, 2025, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter September 3, 2025, as the expiration date for an EAD that has been extended under this Federal Register notice.

If I am an employer enrolled in E-Verify, what do I do when I receive a “Work Authorization Documents Expiring” alert for an automatically extended EAD?

E-Verify automated the verification process for TPS-related EADs that are automatically extended. If you have an employee who provided a TPS-related EAD when they first started working for you, you will receive a “Work Authorization Documents Expiring” case alert when the auto-extension period for this EAD is about to expire. Before this employee starts work on September 4, 2025, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English, Spanish, and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in many languages. Employers may also email IER at IER@usdoj.gov or get more information online at https://www.justice.gov/ier.

Note to Employees

For general questions about the employment eligibility verification process, employees may call USCIS at 888-897-7781 (TTY 877-875-6028) or email USCIS at I-9Central@uscis.dhs.gov. USCIS accepts calls and emails in English, Spanish and many other languages. Employees or job applicants may also call the U.S. Department of Justice, Civil Rights Division, Immigrant and Employee Rights Section (IER) Worker Hotline at 800-255-7688 (TTY 800-237-2515) for information regarding employment discrimination based on citizenship, immigration status, or national origin, including discrimination related to Form I-9 and E-Verify. The IER Worker Hotline provides language interpretation in many languages.

To comply with the law, employers must accept any document or combination of documents from the Lists of Acceptable Documents if the documentation reasonably appears to be genuine and to relate to the employee, or an acceptable List A, List B, or List C receipt as described in these lists. Employers may not require extra or additional documentation other than what is required to complete Form I-9. Further, employers participating in E-Verify who receive an E-Verify case result of “Tentative Nonconfirmation” (mismatch) must promptly inform employees of the mismatch and give these employees an opportunity to resolve the mismatch. A mismatch means that the information entered into E-Verify from Form I-9 differs from records available to DHS.

Employers may not terminate, suspend, delay training, withhold or lower pay, or take any adverse action against an employee because of a mismatch while the case is still pending with E-Verify. A Final Nonconfirmation (FNC) case result occurs if E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at https://www.justice.gov/ier and the USCIS and E-Verify websites at https://www.uscis.gov/i-9-central and https://www.e-verify.gov.

Note Regarding Federal, State, and Local Government Agencies (Such as Departments of Motor Vehicles)

For Federal purposes, if you present an automatically extended EAD referenced in this Federal Register notice, you do not need to show any other document, such as a Form I-797C, Notice of Action, reflecting receipt of a Form I-765 EAD renewal application or this Federal Register notice, to prove that you qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary or applicant, show you are authorized to work based on TPS or other status, or that may be used by DHS to determine if you have TPS or another immigration status. Examples of such documents are:

• Your current EAD with a TPS category code of A-12 or C-19, even if your country of birth noted on the EAD does not reflect the TPS-designated country of Yemen;

• Your Form I-94, Arrival/Departure Record;

• Your Form I-797, Notice of Action, reflecting approval of your Form I-765; or

• Form I-797 or Form I-797C, Notice of Action, reflecting approval or receipt of a past or current Form I-821, if you received one from USCIS.

Check with the government agency requesting documentation about which document(s) the agency will accept.

Some state and local government agencies use SAVE to confirm the current immigration status of applicants for public benefits. While SAVE can verify that an individual has TPS or a pending TPS application, each agency's procedures govern whether they will accept an unexpired EAD, Form I-797, Form I-797C, or Form I-94. If an agency accepts the type of TPS-related document you present, such as an EAD, the agency should accept your automatically extended EAD, regardless of the country of birth listed on the EAD. It may assist the agency if you:

a. Give the agency a copy of the relevant Federal Register notice showing the extension of TPS-related documentation in addition to your recent TPS-related document with your A-Number, USCIS number, or Form I-94 number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed.

You can check the status of your SAVE verification by using CaseCheck at https://www.uscis.gov/save/save-casecheck. CaseCheck is a free service that lets you follow the progress of your SAVE verification case using your date of birth and one immigration identifier number (such as your A-Number, USCIS number, or Form I-94 number) or Verification Case Number. If an agency has denied your application based solely or in part on a SAVE response, the agency must allow you to appeal the decision in accordance with the agency's procedures. If the agency has received and acted on or will act on a SAVE verification and you do not believe the SAVE response is correct, the SAVE website, https://www.uscis.gov/save, has detailed information on how to correct or update your immigration record, make an appointment, or submit a written request to correct records.

[FR Doc. 2024-15084 Filed 7-8-24; 11:15 am]

BILLING CODE 9111-97-P